DEPARTMENT OF THE TREASURY

General Counsel Designation No. 282; Appointment of Members to the Legal Division Performance Review Board

Under the authority granted to me as General Counsel of the Department of the Treasury by 31 U.S.C. 301 and 26 U.S.C. 7801, Treasury Department Order No. 101-5 (Revised), and pursuant to the Civil Services Reform Act, I hereby appoint the following individuals to the General Counsel Panel of the Legal Division Performance Review Board:

George B. Wolfe, Deputy General Counsel, who shall serve as Chairperson;

Thomas M. McGivern, Counselor to the General Counsel;

Kenneth R. Schmalzbach, Assistant General Counsel (General Law and Ethics);

Roberta K. McInerney, Assistant General Counsel (Banking & Finance);

Russell L. Munk, Assistant General Counsel (International Affairs);

William J. Fox, Associate Deputy General Counsel;

Marilyn L. Muench, Deputy Assistant General Counsel (International Affairs);

Traci J. Sanders, Deputy Counselor to the General Counsel;

John J. Manfreda, Chief Counsel, Bureau of Alcohol, Tobacco & Firearms;

Alfonso Robles, Chief Counsel, United States Customs Service;

John J. Kelleher, Chief Counsel, United States Secret Service;

Debra N. Diener, Chief Counsel, Financial Management Service;

Carrol H. Kinsey, Jr., Chief Counsel, Bureau of Engraving and Printing;

Judith Starr, Chief Counsel, Financial Crimes Enforcement Network; and

Daniel P. Shaver, Chief Counsel, U.S. Mint.

Dated: July 17, 2002.
David D. Aufhauser,
General Counsel.

[FR Doc. 02-19697 Filed 8-2-02; 8:45 am]

BILLING CODE 4810-39-M